CONSUMER PRODUCT SAFETY COMMISSION

Public Meeting Concerning Petition for Rule Declaring Natural Rubber Latex a Strong Sensitizer

AGENCY: Consumer Product Safety Commission.

ACTION: Notice of public meeting.

SUMMARY: The Consumer Product Safety Commission (“CPSC” or “Commission”) will conduct a public meeting on December 10, 2003, to receive comments concerning Petition HP 00-2, which requested that the Commission declare natural rubber latex (“NRL”) to be a strong sensitizer under the Federal Hazardous Substances Act (“FHSA”). The CPSC staff's briefing package recommends that the Commission deny the petition. The Commission invites oral presentations from members of the public with information or comments related to the petition or the staff's briefing package. The Commission will consider these presentations as it decides what action to take on the petition.

DATES: The meeting will begin at 10 a.m. on December 10, 2003. Requests to make oral presentations, and 10 copies of the text of the presentation, must be received by the CPSC Office of the Secretary no later than December 3, 2003. Persons making presentations at the meeting should provide an additional 25 copies for dissemination on the date of the meeting.

The Commission reserves the right to limit the number of persons who make presentations and the duration of their presentations. To prevent duplicative presentations, groups will be directed to designate a spokesperson.

Written submissions, in addition to, or instead of, an oral presentation may be sent to the address listed below and will be accepted until January 10, 2003.

ADDRESSES: The meeting will be in room 420 of the Bethesda Towers Building, 4330 East-West Highway, Bethesda, MD. Requests to make oral presentations, and texts of oral presentations should be captioned “Latex Petition Briefing” and be mailed to the Office of the Secretary, Consumer Product Safety Commission, Washington, DC 20207, or delivered to that office, room 502, 4330 East-West Highway, Bethesda, Maryland 20814. Requests and texts of oral presentations may also be submitted by facsimile to (301) 504-0127 or by e-mail to cpsc-os@cpsc.gov.

FOR FURTHER INFORMATION CONTACT: For information about the purpose or subject matter of this meeting contact Suzanne Barone, Ph.D., Directorate for Health Sciences, U.S. Consumer Product Safety Commission, Washington, DC 20207; telephone (301) 504-7256; e-mail: sbarone@cpsc.gov. For information about the schedule for submission of requests to make oral presentations and submission of texts of oral presentations, contact Rockelle Hammond, Office of the Secretary, Consumer Product Safety Commission, Washington, DC 20207; telephone (301) 504-6833; fax (301) 504-0127; e-mail rhammond@cpsc.gov.

SUPPLEMENTARY INFORMATION:

A. Background

The Commission received a petition from Debi Adkins, editor of Latex Allergy News, requesting that the Commission issue a rule declaring natural rubber latex (“NRL”) to be a strong sensitizer under the Federal Hazardous Substances Act (“FHSA”) and that consumer products containing NRL be labeled. The petitioner asserts that a portion of the population has developed an allergy to NRL that can cause serious allergic reactions, even death. NRL may be in such consumer products as gloves, adhesives, shoes, balloons, pacifiers, and carpet backing, as well as many medical products.

The Commission published a notice in the Federal Register on March 21, 2000, requesting comments on the petition. 65 FR 15133. The Commission extended the comment period 30 days. 65 FR 33525. The Commission received a total of 85 comments on the petition.

The staff reviewed the petition, comments and other relevant available information. The staff then forwarded a briefing package to the Commission, which is available on the Commission's Web site www.cpsc.gov or from the Commission's Office of the Secretary. The staff recommends that the Commission deny the petition. The staff concludes that available data do not support that NRL is a strong sensitizer as that term is defined in the FHSA. Current scientific information about the development of NRL allergy from consumer products that contain NRL is limited, and it does not appear that the information will be developed in the near future.

The FHSA defines the term “strong sensitizer” as a “substance which will cause on normal living tissue through an allergic or photodynamic process a hypersensitivity which becomes evident on reapplication of the same substance” and which the Commission declares to be a strong sensitizer. 15 U.S.C. 1261(k). The FHSA definition further states that before making such a declaration, and “upon consideration of the frequency of occurrence and severity of the reaction, [the Commission] shall find that the substance has a significant potential for causing hypersensitivity.” Id.

B. The Public Meeting

The purpose of the public meeting is to provide a forum for oral presentations on the NRL petition and the CPSC staff briefing package.

Participation in the meeting is open. See the DATES section of this notice for information on making requests to give oral presentations at the meeting and on making written submissions.

Dated: November 7, 2003.
Todd A. Stevenson,
Secretary, Consumer Product Safety Commission.

[FR Doc. 03-28458 Filed 11-13-03; 8:45 am]

BILLING CODE 6355-01-P